DEPARTMENT OF ENERGY

Federal Energy Regulatory Commission

[Docket No. EL04-113-000]

Central Hudson Gas & Electric Corp., et al. v. New York Independent Transmission System Operator, Inc.; Notice of Meeting on New York Independent System Operator, Inc. Filing

June 29, 2004.

The Commission hereby gives notice that members of its staff will meet with New York Independent System Operator, Inc. (NYISO) on July 1, 2004, from 11 a.m. to 1 p.m. (e.s.t.). The meeting will be held at the Commission, 888 First Street, NE., Washington, DC 20426. The purpose of the meeting is to discuss a possible upcoming filing by NYISO concerning Transmission Congestion Credits. The meeting is open to the public. Parties interested in further information about the meeting may contact Alice Fernandez at (202) 502-8284.

During the course of the meeting, it is possible that the discussion may address matters pending in the above-captioned docket.

Linda Mitry,
Acting Secretary.

[FR Doc. E4-1514 Filed 7-9-04; 8:45 am]

BILLING CODE 6717-01-P